DEPARTMENT OF COMMERCE

National Oceanic and Atmospheric Administration

[I.D. 020400B]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 6-10, 2000. The Council meeting will begin on Tuesday, March 7, at 8 a.m., reconvening each day through Friday. All meetings are open to the public, except a closed session will be held from 8 a.m. until 8:30 a.m. on Wednesday, March 8 to address litigation and personnel matters. The Council will meet as late as necessary each day to complete its scheduled business.

ADDRESSES: The meetings will be held at the Red Lion Hotel Sacramento, 1401 Arden Way, Sacramento, CA 95815; telephone: (916) 922-8041.

Council address: Pacific Fishery Management Council, 2130 SW Fifth Avenue, Suite 224, Portland, OR 97201.

FOR FURTHER INFORMATION CONTACT: Dr. Donald O. McIsaac, Executive Director; telephone: (503) 326-6352.

SUPPLEMENTARY INFORMATION: The following items are on the Council agenda, but not necessarily in this order:

A. Call to Order

1. Opening Remarks, Introductions, Roll Call

2. Approve Agenda

3. Approve September and November Meeting Minutes

B. Salmon Management

1. Review of 1999 Fisheries and Summary of 2000 Stock Abundance Estimates

2. Estimate Procedures and Methodologies

3. Inseason Management Recommendations for Openings Prior to May 1

4. Preliminary Definition of 2000 Management Options

5. Oregon Coastal Natural Coho Management Review—Progress Report

6. Updates on Activities to Restore Natural Stocks

7. Adoption of 2000 Management Options for Analysis

8. Schedule of Public Hearings and Appointment of Hearings Officers

9. Adoption of 2000 Management Measures for Public Review

C. Habitat Issues

D. Coastal Pelagic Species Management

1. Update on Limited Entry Program

2. Pacific Sardine

3. Status of Plan Amendment (Squid Maximum Sustainable Yield and Bycatch)

E. Pacific Halibut Management

1. Status of Implementation of Council Recommendations

2. Results of the International Pacific Halibut Commission Annual Meeting

3. Proposed Incidental Catch in the Troll Salmon Fishery for 2000

F. Highly Migratory Species Management

1. Progress Report on the Fishery Management Plan

2. Report on International Discussions and Actions

3. Control Date for Limited Entry

G. Groundfish Management

1. Status of Federal Regulations (Including Implementation of the Emergency Rule), Exempted Fishing Permit Applications, Research Programs, and other Activities

2. Status Report on Strategic Plan

3. American Fisheries Act Measures

4. Status of Federal Setnet Programs

5. Bycatch Mortality for Rockfish

6. Groundfish Trip Limit for Pink Shrimp Fishery

7. Progress Report on Plan Amendment for Bycatch and Framework Measures

H. Administrative and Other Matters

1. Council Budget

2. Legislative Report

3. Appointments

4. Research and Data Needs and Economic Data Plan

5. Establishment of a Council Operating Procedure for E-mail

6. April 2000 Agenda

Advisory Meetings

The Salmon Advisory Subpanel will convene on Monday, March 6, at 8 a.m. and will continue to meet throughout the week as necessary to address salmon management items on the Council agenda.

The Habitat Steering Group meets at 9 a.m. on Monday, March 6, to address issues and actions affecting habitat of fish species managed by the Council.

The Scientific and Statistical Committee will convene on Monday, March 6, at 1 p.m., and on Tuesday, March 7, at 8 a.m. to address scientific issues on the Council agenda.

The Budget Committee meets on Monday, March 6 at 1 p.m. to review the status of the 2000 Council budget and the proposed budget for 2001.

The Salmon Technical Team will convene throughout the week (Monday March 6 through Friday March 10) as necessary to address salmon management items on the Council agenda.

The Coastal Pelagic Species Advisory Subpanel will meet on Tuesday, March 7, at 1 p.m. to address coastal pelagic issues on the Council agenda.

The Enforcement Consultants meet at 6 p.m. on Tuesday, March 7, and will continue to meet as necessary through March 10 to address enforcement issues relating to Council agenda items.

The Highly Migratory Species Advisory Subpanel will meet on Wednesday, March 8 at 10 a.m. to discuss highly migratory species issues relating to Council agenda items.

Comments on Council Agenda Items will not be accepted if submitted via e-mail or internet.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Mr. John S. Rhoton at (503) 326-6352 at least 5 days prior to the meeting date.

Dated: February 7, 2000.
Bruce C. Morehead,
Acting Director, Office of Sustainable Fisheries, National Marine Fisheries Service.

[FR Doc. 00-3287 Filed 2-10-00; 8:45 am]

BILLING CODE 3510-22-M